EXPORT-IMPORT BANK

Agency Information Collection Activities: Submission for OMB Review; Comment Request

AGENCY: Export-Import Bank of the U.S.

ACTION: Notice and request for comments.

SUMMARY: The Export-Import Bank, as a part of its continuing effort to reduce paperwork and respondent burden, invites the general public and other Federal Agencies to comment on the proposed information collection as required by the Paperwork Reduction Act of 1995.

SUPPLEMENTARY INFORMATION: This notice is soliciting comments from the public concerning the proposed collection of information to (1) evaluate whether the proposed collection is necessary for the proper performance of the functions of the agency, including whether the information will have practical utility; (2) evaluate the accuracy of the agency's estimate of the burden of the proposed information collection of information; (3) enhance the quality, utility, and clarity of the information to be collected; and minimize the burden of collection of information on those who are to respond, including through the use of appropriated automated collection techniques or other forms of information technology, e.g., permitting electronic submission of responses.

DATES: Written comments should be received on or before January 25, 2005.

ADDRESSES: Direct all comments or requests for additional information to Kristine Wood, Export-Import Bank of the U.S., 811 Vermont Avenue, NW., Washington, DC 20571, (202) 565-3913 or kristine.wood@exim.gov.

Titles and Form Numbers: Export-Import Bank of the United States Long-Term Preliminary Commitment and Final Commitment Application, EIB 95-10.

OMB Number: 3048-0014.

Type of Review: Revision and extension of a currently approved collection.

Need and Use: The information requested enables the applicant to provide Ex-Im Bank with the information necessary to determine eligibility for the loan and guarantee programs.

Affected Public: Business or other for-profit.

Respondents: Entities involved in the provision of financing or arranging of financing for foreign buyers of the U.S. exports.

Estimated Annual Respondents: 70.

Estimated Time per Respondent: 105 hours.

Estimated Annual Burden: 105 hours.

Frequency of Response: When applying for a long-term preliminary or final commitment.

Dated: November 19, 2004.
Solomon Bush,
Agency Clearance Officer.

BILLING CODE 6690-01-M

[FR Doc. 04-26130 Filed 11-24-04; 8:45 am]

BILLING CODE 6690-01-C